Proclamation 10137 of January 17, 2021

National School Choice Week, 2021

By the President of the United States of America

A Proclamation

As we mark National School Choice Week, my Administration reaffirms its commitment to solving the civil rights issue of our time: educational inequity. We have made substantial progress on this front, but we must continue our efforts to ensure that each and every family in America has the freedom to choose an education that best meets their needs and values.

Our Nation currently spends more money per pupil than almost every other industrialized country in the world, yet nearly two-thirds of our youth are not proficient readers, and students across all age groups continue to struggle in math. These failures are largely the result of a one-size-fits-all, industrial-style approach to education. Currently, students are assigned to schools based on where they live, so only those whose families can afford to move to a better-performing school district or can afford private school tuition have a choice in the learning environment that best fits their child's needs. That is fundamentally unfair and unjust. All Americans, no matter their family income, deserve the opportunity to choose the best educational option for them.

What is often forgotten is that the failures of this rigid arrangement disproportionately affect racial minorities and distressed communities, perpetuating a cycle of poverty. We can no longer allow America's classrooms to be an exception to our Nation's promise of equal opportunity for all. Instead, we must provide equal access to a quality education for every American student, no matter where they reside. In the land of the free, a child's zip code should never determine their future.

That is why, I recently issued an Executive Order on Expanding Educational Opportunity through School Choice that provides in-person options for low-income parents forced to send their children to virtual school during the pandemic. But we must continue this progress. Therefore, I renew my call to the Congress to pass the Education Freedom Scholarships and Opportunity Act, so we can finally take a giant step towards true liberty for students. This landmark legislation would give more than 1 million children the freedom to attend the school that best fits their needs, and would create more than $5 billion in annual tax credits for those who donate to local scholarship funds, empowering more families to choose the best educational setting for their children.

I also call on the Congress to pass the School Choice Now Act, which will ensure every State can fund elementary and high school scholarship programs, so that students do not lose access to their school of choice because of economic disruptions. As too many school districts across the country refuse to open, these scholarships are needed now more than ever so that families unable to afford private tutors or who work during the day can still provide an education for their children.

Education will always be one of the most important factors in a child's future success. That is why I am fighting to empower all families—of all races, backgrounds, and incomes—with the freedom and the resources they need to make the best decisions for their children. In America, more freedom leads to more opportunity—especially in the classroom. By embracing my Administration's school choice policy, we will make sure that every American student is able to fulfill their God-given potential.

NOW, THEREFORE, I, DONALD J. TRUMP, President of the United States of America, by virtue of the authority vested in me by the Constitution and the laws of the United States, do hereby proclaim January 24 to January 30, 2021, as National School Choice Week.

IN WITNESS WHEREOF, I have hereunto set my hand this seventeenth day of January, in the year of our Lord two thousand twenty-one, and of the Independence of the United States of America the two hundred and forty-fifth.

[FR Doc. 2021-01633

Filed 1-21-21; 11:15 am]

Billing code 3295-F1-P